DEPARTMENT OF ENERGY

Federal Energy Regulatory Commission

[Docket Nos. RP01-245-000 and RP01-253-000]

Transcontinental Gas Pipe Line Corporation; Notice of Informal Settlement Conference

January 18, 2002.

Take notice that an informal settlement conference will be convened in this proceeding commencing at 10 a.m. on Monday, February 4, 2002 at the offices of the Federal Energy Regulatory Commission, 888 First Street, NE, Washington, DC, 20426, for the purpose of exploring the possible settlement of the above-referenced proceeding.

Any party, as defined by 18 CFR 385.102(c), or any participant as defined by 18 CFR 385.102(b), is invited to attend. Persons wishing to become a party must move to intervene and receive intervenor status pursuant to the Commission's Regulations (18 CFR 385.214).

For additional information, please contact Bill Collins at (202) 208-0248 or Irene Szopo at (202) 208-1602.

Linwood A. Watson, Jr.,
Acting Secretary.

[FR Doc. 02-1832 Filed 1-24-02; 8:45 am]

BILLING CODE 6717-01-P